DEPARTMENT OF DEFENSE

Department of the Army, Army Corps of Engineers

Notice of Intent To Prepare Supplemental Environmental Impact Statement for the Yazoo Area Pump Project

AGENCY: U.S. Army Corps of Engineers, DoD.

ACTION: Notice of Intent.

SUMMARY: The U.S. Army Corps of Engineers (“USACE”), Vicksburg District, is announcing its intent to prepare a Supplemental Environmental Impact Statement (SEIS) for the Yazoo Basin Reformulation Study, Yazoo Backwater Area, 58 FR 52, 103 (October 6, 1993). Recent floods and new data on the environment in the Yazoo Backwater Area prompted this new project proposal. In 9 out of the last 10 years, the Yazoo Backwater Area has experienced significant flooding. In particular, the historic flood of 2019 caused two deaths, caused hundreds of millions of dollars in damages, flooded over 600 homes, and significantly adversely affected the aquatic and terrestrial environment. The recurring flooding has demonstrated the need to complete the Yazoo Area Pump Project feature. New, previously unavailable data indicates that the environmental impacts to wetlands and other resources from a pumping plant would be far less than calculated in the 2007 FSEIS. The Supplemental Environmental Impact Statement will tier from and update the 2007 FSEIS with new data. It will not reformulate the broad array of alternatives previously examined in the 2007 FSEIS, but will analyze a new project proposal to build the pump project (the Proposed Action) in light of the new data. The Supplemental Environmental Impact Statement will also examine environmental measures to mitigate the low dissolved oxygen content in the Yazoo Backwater Area, which is currently detrimental to aquatic species.

ADDRESSES: U.S. Army Corps of Engineers, Vicksburg District, ATTN: CEMVK-PPMD, 4155 East Clay Street, Room 248, Vicksburg, MS 39183.

FOR FURTHER INFORMATION CONTACT: Comments and questions regarding the Supplement should be submitted to USACE by email to YazooBackwater@usace.army.mil; or by postal mail to the above address; or by phone to Mr. Kenneth Parrish at 601-631-5006. For additional information, including but not limited to a copy of the 2007 FSEIS, please visit the Project website at the following link: https://www.mvk.usace.army.mil/Missions/Programs-and-Project-Management/Project-Management/Yazoo-Backwater-Report/.

SUPPLEMENTARY INFORMATION:

1. Project Background and Authorization. The Yazoo Basin, Yazoo Backwater, Mississippi, Project, of which the Yazoo Area Pump Project is a part, was authorized by the Flood Control Act (FCA) of 18 August 1941 House Document (HD) 359/77/1, as amended by the Acts of 22 December 1944 and 27 October 1965 (HD 308/88/2) and the Water Resources Development Act (WRDA) of 1986 and 1996. In 2020, Congress provided funding for environmental documentation. One of the authorized features, the Yazoo Backwater Levee, was completed in 1978 to reduce flood risks from Mississippi River. Though it prevents Mississippi River floodwaters from entering the Yazoo Backwater Area, it also prevents water from leaving the area, often trapping the water from the 4,093 square mile drainage area for extended periods of time. This trapped water effectively creates an artificial lake that is uninhabitable by nearly all species. The historic 2019 flood inundated over a half million acres of the Yazoo Backwater Area from February to August. The Yazoo Backwater area also has experienced significant flooding 9 out of the last 10 years. Aquatic species are acutely affected by low dissolved oxygen created by the stagnant conditions. Terrestrial species must flee or face mortality by the significant depth of the water and lack of food. The human population of the Yazoo Backwater Area also suffers significantly. In 2019, hundreds were displaced from their flooded homes for over six months and the entire crop season was lost for farmers in the affected area. The effects on terrestrial and aquatic life were also devastating. The event would have been several feet lower and lasted for fewer months if the Yazoo Area Pump Project feature had been completed, averting impacts to both natural resources and reducing non-agricultural economic damages by more than 50%, and reducing damages to homes from flooding. Other completed features of the Yazoo Backwater Project include the Steele Bayou, Little Sunflower, and Muddy Bayou control structures along with a 15 mile long connecting channel between the Steel Bayou and Little Sunflower Control Structures. These features were completed between 1969 and 1978. The Yazoo Area Pump Project is the only feature of the Yazoo Backwater Project that remains unconstructed, and the Yazoo Backwater Area is the only major backwater area in the Mississippi River and Tributaries Project (MR&T) that does not have a pumping plant. The Yazoo Area Pump Project has been extensively reformulated over the past six decades to balance flood risk reduction with environmental concerns. Previous recommended plans called for pumping nearly double the amount of water and activating the pumps at a much lower elevations in the Yazoo Backwater Area to address flooding. The 2007 FSEIS Plan combined structural and nonstructural means to strike a balance of flood risk reduction and environmental effects. The following is a brief summary of the timeline: In 1982 USACE filed an EIS for the Yazoo Area Pump Project. Construction was initiated in 1986 but was halted by WRDA 1986, which required construction and operation and maintenance to be cost shared by a non-federal sponsor. Guidance from OMB in fiscal year 1991 Budget Pass-backs directed the Corps to reformulate Yazoo Basin Projects to provide: (1) Greater levels of flood protection to urban areas, (2) reduce levels of agricultural intensification, and (3) reduced adverse impacts to the environment. In 1993 USACE filed a Notice of Intent to file a Supplemental EIS and initiated reformulation of the project according to the above guidelines. WRDA 1996 changed the cost sharing requirements back to those in the original authorization. In 2000 USACE released the draft SEIS for comment. In 2007, after completing additional analyses and revisions in response to comments, USACE completed the Final Report, which included the Reformulation Study and FSEIS. In August 2008 it was vetoed by the EPA under 404(c) of the Clean Water Act due to adverse environmental effects.

2. Proposed Action. The Proposed Action is a new project proposal to complete the Yazoo Area Pump Project feature to alleviate the flood damage in the Yazoo Backwater Area. The structural component consists of a 14,000 cubic feet per second (cfs) pump activated at elevation 87 feet (ft). National Geodetic Vertical Datum (NGVD). The proposed location being considered for the pumping station will be near Deer Creek in Warren County, MS. The Proposed Action's nonstructural component is to purchase easements from willing sellers on cleared agricultural lands below elevation 87 ft. NGVD and subsequent reforestation. A new environmental mitigation feature of the Proposed Action will be the installation of well fields adjacent to the Mississippi River levee upstream of the backwater area. The augmented flow will improve aquatic habitat, particularly for endangered mussel species. New data shows that previously calculated adverse impacts to wetlands in the 2007 FSEIS overestimated the potential impacts of the proposed pumping plant given available data at the time. For further information refer to “Forested Wetland Hydrology in a Large Mississippi River Tributary System” by Berkowitz, J.F., D.R. Johnson, and J.J. Price, published in the Wetlands Journal in December 2019 and available at https://link.springer.com/article/10.1007/s13157-019-01249-5 or at the Project website. The Supplemental Environmental Impact Statement will include a new 404(b)1 evaluation under the Clean Water Act.

3. Alternatives. The 2007 FSEIS evaluated a broad array of alternatives, including the No-Action alternative, nonstructural alternatives, structural alternatives, and combinations of structural and nonstructural alternatives. Reformulation will not be included in the Supplemental Environmental Impact Statement. The Supplemental Environmental Impact Statement will focus primarily on updating the 2007 FSEIS where necessary and incorporating the new, previously unavailable, scientific data to analyze the Proposed Action and compare it to the 2007 FSEIS.

4. Scoping. USACE conducted extensive scoping for the 2007 FSEIS so scoping will be comparatively limited and there will not be any additional public scoping meetings. However, the public is invited to provide scoping comments at the project email address: YazooBackwater@usace.army.mil (or via post mail). Please provide comments by June 15, 2020. Potential participating local, state, and Federal agencies and affected Indian tribes that have an interest in the area are being contacted. The purpose of this Notice of Intent is to provide public notice on the Vicksburg District's intent to prepare a Supplemental Environmental Impact Statement based on new data. The Supplement will also provide further information on the humanitarian and ecological damage caused by backwater flooding in the Yazoo Backwater Area, and analyze how the Proposed Action will lessen those impacts.

5. Public Meeting: During the COVID-19 public health emergency, USACE must consider the health and safety of employees, federal, state, and local stakeholders, and the general public. It is anticipated that a virtual public meeting will be held in conjunction with publishing the Draft Supplemental Environmental Impact Statement for public comment, which is planned for October 2020. The exact date, time, and location of the public meeting will be publicly announced in advance by USACE on the Project website and by any other means deemed appropriate. The public meeting will be streamed via live video through official USACE social media channels, which will allow USACE to present information to a larger audience, and to receive additional comments. Notices of the public meeting will be sent by USACE through email distribution lists; posted on the Project website and official USACE social media channels; and mailed to public libraries, government agencies, and interested groups and individuals. The public meeting date will also be advertised in local newspapers. Members of the public are encouraged to submit written comments in accordance with established timeframes.

6. Potentially Significant Issues. The Supplemental Environmental Impact Statement will provide updated data and analyses on the following resources: bottomland hardwoods, wetlands, endangered species, waterfowl, fisheries, water quality, downstream effects, cultural resources, environmental justice, recreation, and more. Wetlands, downstream effects, aquatics and environmental justice are discussed briefly below.

Wetlands: Wetlands impacts were a substantial source of concern among commenters and the primary reason for the EPA 404(c) veto in 2008. The 2019 flood demonstrated that prolonged flooding can result in significant adverse effects to wildlife populations and natural habitats associated with wetland areas. Unlike typical river flooding, backwater floods in the Yazoo Backwater Area consist of trapped water, typically loaded with agricultural runoff and organic matter from forested areas. The backwater pool rises and falls slowly and remains stagnant for long periods of time. The extended duration and magnitude of the 2019 flood contributed to the degradation of aquatic habitats resulting from poor water quality conditions created by the flooding.

Downstream Effects: Recent studies have shown that the downstream impacts will be insignificant because the total load of nutrients and organic carbon that will be exported downstream would not be altered as a result of pump operations. The additional water from 14,000 cfs pumps, operating at full capacity, is less than 1% of the Mississippi River highwater flow, representing a nearly immeasurable contribution to the outflow at the Vicksburg Gage. The additional flow would only increase the water surface at the Vicksburg Gage by less than a tenth of one foot, which has no appreciable effect to downstream flooding.

Aquatics: New data shows severe hypoxia occurs during major backwater flood events and this hypoxia negatively affects fish species and other aquatic organisms. Flood-induced hypoxia during the spring and early summer likely impacts successful spawning and rearing regardless of aquatic habitats. The juvenile and adult life stages that do survive through the flood season are faced with extreme low flows during the fall. The Supplemental Environmental Impact Statement will analyze environmental and adaptive management plans to reduce the spatial extent and duration of hypoxia and improve environmental flows, particularly during the fall season.

Environmental Justice: Backwater flooding causes severe economic damages to all populations in the Yazoo Backwater Area by destroying homes, farmland, and wildlife resources; the harm was especially severe in 2019. As this Notice is published, the Yazoo Backwater is again experiencing another significant flood. In February of 2020 the water peaked only 2 feet lower than in 2019. After dropping slightly in March, the Yazoo Backwater is expected to peak again at least 96 ft. NGVD, flooding over 450,000 acres of land.

7. Availability. The schedule for the Draft Supplemental Environmental Impact Statement anticipates the release of the draft Supplemental Environmental Impact Statement by USACE for public review and comment in October 2020. After it is published, as described above, USACE will hold a virtual public comment meeting to present the results of studies, to receive comments and to address questions concerning the proposed action.

Edward E. Belk, Jr,
Director of Programs, Mississippi Valley Division, US Army Corps of Engineers.

[FR Doc. 2020-07966 Filed 4-15-20; 8:45 am]

BILLING CODE 3720-58-P